ENVIRONMENTAL PROTECTION AGENCY

40 CFR Part 63

[Docket ID No. OAR-2002-0085; FRL-7462-3]

RIN 2060-AH55

National Emission Standards for Hazardous Air Pollutants for Coke Ovens: Pushing, Quenching, and Battery Stacks

Correction

In rule document 03-5625 beginning on page 18008 in the issue of Monday, April 14, 2003 make the following corrections:

1. On page 18012, in the third column, the fourth line from the bottom, after “April 14, 2003”, add the words, “must comply by April 14, 2003.”.

§ 63.7283 [Corrected]

2. On page 18026, in the second column, under § 63.7283, in paragraph (b), in the eigth line, “2006” should read “2003”.

[FR Doc. C3-5625 Filed 4-21-03; 8:45 am]

BILLING CODE 1505-01-D

FEDERAL RESERVE SYSTEM

Agency Information Collection Activities: Proposed Collection; Comment Request

Correction

In notice document 03-9264 beginning on page 18653 in the issue of Wednesday, April 16, 2003, make the following correction:

On page 18653, in the second column, under the heading DATES, in the second and third lines, “[insert date 60 days from publication in the Federal Register]” should read “June 16, 2003”.

[FR Doc. C3-9264 Filed 4-21-03; 8:45 am]

BILLING CODE 1505-01-D

DEPARTMENT OF TRANSPORTATION

Federal Aviation Administration

14 CFR Part 71

[Docket No. FAA-2003-14843; Airspace Docket No. 03-ACE-28]

Modification of Class E Airspace; Rock Rapids, IA

Correction

In rule document 03-9179 beginning on page 18115 in the issue of Tuesday, April 15, 2003, make the following corrections:

1. On page 18116, in the first column, under the ADDRESSES heading, in the eighth line, “03-ACD-28” should read “03-ACE-28”.

§71.1 [Corrected]

2. On the same page, in the third column, in §71.1, under the heading ACE IA E5 Rock Rapids, IA, in the fourth line, “6.2” should read “6.3”.

[FR Doc. C3-9179 Filed 4-21-03; 8:45 am]

BILLING CODE 1505-01-D

DEPARTMENT OF TRANSPORTATION

Federal Aviation Administration

14 CFR Part 71

[Docket No. FAA-2003-14844; Airspace Docket No. 03-ACE-29]

Modification of Class E Airspace; New Madrid, MO

Correction

In rule document 03-9178 beginning on page 18117 in the issue of Tuesday, April 15, 2003, make the following corrections:

1. On page 18117, in the first column, under the SUMMARY heading, in the second paragraph, in the first line “is not” should read “is”.

2. On the same page, in the same column, under the ADDRESSES heading, in the eigth line, “03-AC-29” should read “03-ACE-29”.

§ 71.1 [Corrected]

3. On page 18118, in the first column, in §71.1, under the heading ACE MO E5 New Madrid, MO, in the fourth line, “(Lat. 36°33′17′′ N.,” should read “(Lat. 36°33′18′′ N.,”.

[FR Doc. C3-9178 Filed 4-21-03; 8:45 am]

BILLING CODE 1505-01-D